DEPARTMENT OF COMMERCE

International Trade Administration

[C-475-819]

Pasta From Italy: Final Results of Countervailing Duty Administrative Review; 2016

AGENCY: Enforcement and Compliance, International Trade Administration, Department of Commerce.

SUMMARY: The Department of Commerce (Commerce) has completed its administrative review of the countervailing duty (CVD) order on pasta from Italy. We have determined that GR.A.M.M. S.r.l. (GR.A.M.M.), the only mandatory respondent, received countervailable subsidies during the period of review (POR) January 1, 2016, through December 31, 2016.

DATES: Applicable December 14, 2018.

FOR FURTHER INFORMATION CONTACT: Mary Kolberg, AD/CVD Operations, Office I, Enforcement and Compliance, International Trade Administration, U.S. Department of Commerce, 1401 Constitution Avenue NW, Washington, DC 20230; telephone: (202) 482-1785.

SUPPLEMENTARY INFORMATION:

Background

On July 24, 1996, Commerce published in the Federal Register a CVD Order on pasta from Italy.¹ On August 9, 2018, Commerce published the Preliminary Results of this CVD administrative review in the Federal Register.² Commerce gave interested parties an opportunity to comment on the Preliminary Results. On September 11, 2018, we received a case brief from GR.A.M.M. No rebuttal comments were received.

¹ See Notice of Countervailing Duty Order and Amended Final Affirmative Countervailing Duty Determination: Certain Pasta (“Pasta”) from Italy, 61 FR 38544 (July 24, 1996) (Order).

² See Certain Pasta from Italy: Preliminary Results of Countervailing Duty Administrative Review and Partial Rescission; 2016, 83 FR 39418 (August 9, 2018) (Preliminary Results), and accompanying Preliminary Decision Memorandum.

Scope of the Order

The merchandise covered by this order is certain non-egg dry pasta from Italy. The merchandise subject to this order is currently classifiable under items 1901.90.90.95 and 1902.19.20 of the Harmonized Tariff Schedule of the United States (HTSUS). Although the HTSUS subheadings are provided for convenience and customs purposes, the written description of the merchandise subject to the order is dispositive. A full description of the scope of the order is contained in the Issues and Decision Memorandum, which is hereby adopted in this notice.³

³ See Memorandum, “Issues and Decision Memorandum for the Final Results of Countervailing Duty Administrative Review: Certain Pasta from Italy; 2016,” dated concurrently with this notice (Issues and Decision Memorandum).

Analysis of Comments Received

All issues raised in the respondent's case brief are listed in the Appendix to this notice and are addressed in the Issues and Decision Memorandum accompanying this notice. The Issues and Decision Memorandum is a public document and is on file electronically via Enforcement and Compliance's Antidumping and Countervailing Duty Centralized Electronic Service System (ACCESS). ACCESS is available to registered users at http://access.trade.gov and in the Central Records Unit, Room B8024 of the main Commerce building. In addition, a complete version of the Issues and Decision Memorandum can be accessed directly at http://enforcement.trade.gov/frn. The signed and electronic versions of the Issues and Decision Memorandum are identical in content.

Changes Since the Preliminary Results

For the final results, we changed the calculation of the countervailable subsidy rate for Action 6.1.4, Aid on Investment Program Promoted by Micro and Small Businesses, based on additional information provided regarding the specificity of the program and no longer find the portion of the program funded by the Regional Government of Puglia to be countervailable.

Methodology

We conducted this review in accordance with section 751(a)(1)(A) of the Tariff Act of 1930, as amended (the Act). For each of the subsidy programs found to be countervailable during the POR, we find that there is a subsidy, i.e., a government-provided financial contribution that gives rise to a benefit to the recipient, and that the subsidy is specific.⁴ For a full description of the methodology underlying our conclusions, see the Issues and Decision Memorandum.

⁴ See sections 771(5)(B) and (D) of the Act regarding financial contribution; section 771(5)(E) of the Act regrading benefit; and, section 771(5A) of the Act regarding specificity.

Final Results of Review

We determine the following net countervailable subsidy rate for GR.A.M.M., for the period, January 1, 2016, through December 31, 2016:

Producer/exporter | Net subsidy rate (percent)
GR.A.M.M. S.r.l | 1.18

Disclosure

We intend to disclose to the parties in this proceeding the calculations performed for these final results within five days of the date of publication of this notice in the Federal Register.⁵

⁵ See 19 CFR 351.224(b).

Assessment Rates

In accordance with 19 CFR 351.212(b)(2), Commerce intends to issue assessment instructions to U.S. Customs and Border Protection (CBP) 15 days after the date of publication of these final results to liquidate shipments of subject merchandise entered, or withdrawn from warehouse, for consumption, on or after January 1, 2016 through December 31, 2016, at the ad valorem rate listed above.

Cash Deposit Instructions

In accordance with section 751(a)(2)(C) of the Act, we intend to instruct CBP to collect cash deposits of estimated countervailing duties in the amount shown above for shipments of subject merchandise by GR.A.M.M.. For all non-reviewed firms, we will instruct CBP to continue to collect cash deposits of estimated countervailing duties at the most recent company-specific or all-others rate applicable to the company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act and 19 CFR 351.221(b)(5).

Dated: December 7, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. List of Interested Party Comments

IV. Scope of the Order

V. Changes Since the Preliminary Results

VI. Subsidy Valuation Information

VII. Analysis of Programs

VIII. Discussion of the Issues

Comment 1: Commerce Should Not Make Any Changes to the Results Other Than Those Raised in Parties' Briefs

Comment 2: Commerce Should Exclude the Action 6.1.4. Program from the Final Results

Commerce 3: Commerce Should Recalculate the Benefit for the ERDF Action 4.1 Program

IX. Conclusion

[FR Doc. 2018-27119 Filed 12-13-18; 8:45 am]

BILLING CODE 3510-DS-P